DEPARTMENT OF COMMERCE

International Trade Administration

[C-570-971]

Multilayered Wood Flooring From the People's Republic of China: Correction to Final Results of Countervailing Duty Administrative Review; 2015

AGENCY: Enforcement and Compliance, International Trade Administration, Department of Commerce.

DATES: Applicable July 23, 2018.

FOR FURTHER INFORMATION CONTACT: Dennis McClure, Enforcement and Compliance, International Trade Administration, U.S. Department of Commerce, 1401 Constitution Avenue NW, Washington, DC 20230; telephone: (202) 482-5973.

Correction to Final Results: On June 14, 2018, the Department of Commerce (Commerce) published in the Federal Register the Final Results of the 2015 administrative review of the countervailing duty (CVD) Order ¹ on multilayered wood flooring from the People's Republic of China (China).² Subsequently, we received a timely filed allegation that the name for one non-selected company was inadvertently misspelled.³ Specifically, the published Federal Register notice contained a ministerial error in that it included an exporter's name that was misspelled as Baishan Huafeng Wood Product Co., Ltd. The correct spelling of this exporter's name is Baishan Huafeng Wooden Product Co., Ltd. Pursuant to section 751(h) of the Tariff Act of 1930, as amended (the Act), Commerce shall correct any ministerial errors within a reasonable time after the determinations are issued under this section. A ministerial error is defined at 19 CFR 351.224(f) as an error “in addition, subtraction, or other arithmetic function, clerical errors resulting from inaccurate copying, duplication, or the like, and any other type of unintentional error. . .” Therefore, we are amending the Final Results of the administrative review covering the period January 1, 2015, through December 31, 2015. This notice serves to correct the misspelled exporter company name listed in the Final Results. No other changes have been made to the Final Results.

¹ See Multilayered Wood Flooring from the People's Republic of China: Countervailing Duty Order, 76 FR 76692 (December 8, 2011); see also Multilayered Wood Flooring from the People's Republic of China: Amended Antidumping and Countervailing Duty Orders, 77 FR 5484 (February 3, 2012), wherein the scope of the Order was modified (collectively, Order).

² See Multilayered Wood Flooring from the People's Republic of China: Final Results and Partial Rescission of Countervailing Duty Administrative Review; 2015, 83 FR 27750 (June 14, 2018).

³ See Baishan Huafeng Wooden Product Co., Ltd.'s Letter, “Multilayered Wood Flooring from the PRC: Request for Correction of Ministerial Error in Company Name on Behalf of Baishan Huafeng Wooden Product Co., Ltd.,” dated June 15, 2018.

These amended final results are published in accordance with sections 751(a)(1), 751(h), and 777(i)(1) of the Act, and 19 CFR 351.213.

Dated: July 17, 2018.
Gary Taverman,
Deputy Assistant Secretary for Antidumping and Countervailing Duty Operations, performing the non-exclusive functions and duties of the Assistant Secretary for Enforcement and Compliance.

[FR Doc. 2018-15689 Filed 7-20-18; 8:45 am]

BILLING CODE 3510-DS-P